DEPARTMENT OF THE INTERIOR

Fish and Wildlife Service

Information Collection Submitted to the Office of Management and Budget (OMB) for Approval Under the Paperwork Reduction Act

AGENCY: Fish and Wildlife Service, Interior.

ACTION: 60-day notice of renewal of approval to collect information OMB #1018-0015.

SUMMARY: The collection of information listed below will be submitted to OMB for approval under the provisions of the Paperwork Reduction Act. A copy of the information collection requirement is included in this notice. Copies of the proposed information collection requirement, related forms, and explanatory material may be obtained by contacting the Service Information Collection Clearance Officer at the address listed below.

DATES: Comments must be submitted on or before June 11, 2001.

ADDRESSES: Comments and suggestions on the requirement should be sent directly to the Information Collection Clearance Officer, U.S. Fish and Wildlife Service, ms 222C-ARLSQ, 4401 North Fairfax Drive, Arlington, VA 22203.

FOR FURTHER INFORMATION CONTACT: Rebecca A. Mullin, Service Information Collection Clearance Officer, (703) 358-2287; (703) 358-2269 (fax), or electronically to rmullin@fws.gov.

SUPPLEMENTARY INFORMATION:

Title: Migratory Bird Harvest Surveys.

Approval Number: 1018-0015.

Service Form Number(s): 3-1823A, 3-2056G, 3-165, 3-165A-C, 3-2056J-M.

Description and Use: The Migratory Bird Treaty Act (16 USC 703-711) and Fish and Wildlife Act of 1956 (16 USC 742d) designate the Department of the Interior as the key agency responsible for the wise management of migratory bird populations frequenting the United States and for the setting of hunting regulations that allow appropriate harvests that are within the guidelines that will allow for those populations' well being. These responsibilities dictate the gathering of accurate data on various characteristics of migratory bird harvest of a geographic and temporal nature. Knowledge attained by determining harvests and harvest rates of migratory game birds is used to regulate populations (by promulgating hunting regulations) and to encourage hunting opportunity, especially where crop depredations are chronic and/or lightly harvested populations occur. Based on information from harvest surveys, hunting regulations can be adjusted as needed to optimize harvests at levels that provide a maximum of hunting recreation while keeping populations at desired levels.

This information collection approval request combines three sets of surveys (the Waterfowl Hunter Survey, the Migratory Bird Hunter Survey, and the Parts Collection Survey) and associated forms because they are interrelated and/or dependent upon each other.

The Waterfowl Hunter Survey, which estimates the harvest of ducks and geese, is based on Federal Duck Stamp sales. This survey asks people who purchase Federal Duck Stamps from randomly sampled Post Offices and other stamp vendors to complete and return a postcard (form 3-1823A) with their name and address. Hunters who complete and return the postcard are sent a postcard questionnaire (form 3-2056G) at the end of the hunting season, asking them to report their harvest of ducks and geese. Their responses provide estimates of the average harvest per hunter, which, combined with total Federal Duck Stamp sales, enables the Service to estimate the total harvest of ducks and geese.

The Migratory Bird Hunter Survey is based on the Migratory Bird Harvest Information Program, under which each State annually provides a list of all licensed migratory bird hunters in the State. Randomly selected migratory bird hunters are sent either a waterfowl questionnaire (form 3-2056J), a dove and band-tailed pigeon questionnaire (form 3-2056K), a woodcock questionnaire (form 3-2056L), or a snipe, rail, gallinule, and coot questionnaire (form 3-2056M) and are asked to report their harvest of those species. The resulting estimates of harvest per hunter are combined with the complete list of migratory bird hunters to provide estimates of the total harvest of those species. This survey will replace the Waterfowl Hunter Survey after it has been fully implemented in all States and comparisons of results with Waterfowl Hunter Survey results have been completed.

The Parts Collection Survey estimates the species, sex, and age composition of the harvest, and the geographic and temporal distribution of the harvest. Randomly selected successful hunters who responded to the Waterfowl Hunter Survey or the Migratory Bird Hunter Survey the previous year are asked to complete and return a postcard (forms 3-165A and C) if they are willing to participate in the Parts Collection Survey. Respondents are provided postage-paid envelopes before the hunting season and asked to send in a wing or the tail feathers from each duck, goose, or coot (form 3-165) they harvest, or a wing from each woodcock, band-tailed pigeon, snipe, rail, or gallinule (form 3-165B) they harvest. The wings and tail feathers are used to identify the species, age, and sex of the harvested sample. Respondents are also asked to report on the envelope the date and location (state and county) of harvest for each bird. Results of this survey are combined with harvest estimates from the Waterfowl Hunter Survey and the Migratory Bird Hunter Survey to provide species-specific national harvest estimates.

The combined results of these surveys enable the Service to evaluate the effects of season length, season dates, and bag limits on the harvest of each species, and thus help determine appropriate hunting regulations.

Frequency of Collection: Annually.

Description of Respondents: Individuals and households.

Estimated Completion Time: The reporting burden is estimated to average 2 minutes per respondent for the Migratory Bird Harvest Information Program, 8 minutes per respondent for the Waterfowl Hunter Survey, 4 minutes per respondent for the Migratory Bird Hunter Survey, and 50 minutes per respondent for the Parts Collection Survey.

Number of Respondents: About 3,600,000 individuals are expected to participate in the Migratory Bird Harvest Information Program. Recent Service experience indicates that about 20,500 hunters will respond to the Waterfowl Hunter Survey each year, about 11,400 hunters will respond to the Parts Collection Survey annually, and about 90,000 hunters will respond to the Migratory Bird Hunter Survey annually.

Annual Burden Hours: 138,917.

Comments are invited on: (1) Whether the collection of information is necessary for the proper performance of the functions of the agency, including whether the information will have practical utility; (2) the accuracy of the agency's estimate of the burden of the collection of information; (3) ways to enhance the quality, utility, and clarity of the information to be collected; and, (4) ways to minimize the burden of the collection of information on respondents.

Dated: April 9, 2001.
Rebecca A. Mullin,
Service Information Collection Officer.

[FR Doc. 01-9063 Filed 4-11-01; 8:45 am]

BILLING CODE 4310-55-P